ENVIRONMENTAL PROTECTION AGENCY

[EPA-HQ-SFUND-2010-0894; FRL-9233-7]

Guidance on Planning, Implementing, Maintaining, and Enforcing Institutional Controls at Contaminated Sites

AGENCY: Environmental Protection Agency (EPA).

ACTION: Notice of availability.

SUMMARY: EPA is interested in soliciting individual stakeholder input regarding the issues addressed in the EPA interim final guidance, titled Institutional Controls: A Guide to Planning, Implementing, Maintaining, and Enforcing Institutional Controls at Contaminated Sites. The Agency will consider the information gathered from this notice and other sources before finalizing this guidance.

DATES: Comments must be received on or before January 14, 2011, 45 days after publication in the Federal Register.

ADDRESSES: Submit your comments, identified by Docket ID No. EPA-HQ-SFUND-2010-0894 by one of the following methods:

• http://www.regulations.gov: Follow the on-line instructions for submitting comments.

• E-mail: superfund.docket@epa.gov

• Fax: (202) 566-9744

• Mail: U.S. Environmental Protection Agency; EPA Docket Center, Superfund Docket, Mail Code 28221T; 1200 Pennsylvania Avenue, NW., Washington, DC 20460

• Hand Delivery: EPA Docket Center—Public Reading Room; EPA West Building, Room 3334; 1301 Constitution Avenue, NW., Washington, DC 20004. Such deliveries are only accepted during the Docket's normal hours of operation, and special arrangements should be made for deliveries of boxed information.

Instructions: Direct your comments to Docket ID No. EPA-HQ-SFUND-2010-0894. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or superfund.docket@epa.gov. The http://www.regulations.gov website is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center—Public Reading Room, EPA/DC, EPA West, Room 3334; 1301 Constitution Ave., NW., Washington, DC. The Public Reading Room is open from 8:30 a.m. to 4:30 p.m., Monday through Friday, excluding legal holidays. The telephone number for the Public Reading Room is (202) 566-1744, and the telephone number for the Superfund docket is (202) 566-0276.

FOR FURTHER INFORMATION CONTACT: Chip Love, phone: (703) 603-0695, e-mail: love.chip@epa.gov, Construction and Post Construction Management Branch, Assessment and Remediation Division, Office of Superfund Remediation and Technology Innovation (mail code 5204P), U.S. Environmental Protection Agency, 1200 Pennsylvania Avenue, NW., Washington, DC 20460.

SUPPLEMENTARY INFORMATION: EPA's interim final guidance on Institutional Controls: A Guide to Planning, Implementing, Maintaining, and Enforcing Institutional Controls at Contaminated Sites addresses some of the common issues that may be encountered during the cleanup process and provides recommendations on how ICs can complement other response actions (such as engineered response action components) at a site. This interim final guidance also provides an overview of EPA's policy regarding the roles and responsibilities of the parties involved in the various aspects of planning, implementing, maintaining, and enforcing institutional controls. The guidance is available at http://www.regulations.gov. This guidance does not represent a regulation, and is not subject to the formal provisions of the Administrative Procedures Act. However, EPA recognizes the potential importance of this guidance to its Federal, state, local, and tribal partners, to the regulated community, and to the public, and therefore through this Federal Register notice seeks public input on the topics addressed in this interim final guidance and its implementation. This public input opportunity will be available until January 14, 2011.

EPA intends to evaluate whether any changes to the interim final guidance are appropriate and expects to issue a final version of this guidance. For purposes of this Federal Register notice, EPA in particular seeks input on the following:

• Are there ways EPA can better evaluate the capacity, willingness, and financial assurance of state, tribal and local governments to assist with ICs and engineering controls when such controls are necessary at a site?

• What potential barriers exist with respect to state, local, and tribal government involvement with ICs and what tools or possible solutions could EPA promote to improve the awareness of and involvement in IC activities?

• How can site managers better engage and involve affected community stakeholders and local land use decision-makers concerning ICs that may be needed and relied upon to complement other response actions (i.e., engineered response action components) at cleanup sites?

• How can information concerning ICs and the underlying land and/or resource use restrictions be made more available to local land use decision-makers?

• How can EPA better identify and account for the full life cycle costs of ICs?

EPA intends to accept input on the interim final guidance until January 14, 2011. EPA also intends to fully consider all public input in evaluating whether changes to the interim final guidance are appropriate, and to issue a final version of this guidance.

Dated: November 23, 2010.
Mathy Stanislaus,
Assistant Administrator, Office of Solid Waste and Emergency Response.

[FR Doc. 2010-30111 Filed 11-29-10; 8:45 am]

BILLING CODE 6560-50-P